DEPARTMENT OF HOMELAND SECURITY

U.S. Customs and Border Protection

Agency Information Collection Activities: Request for Entry or Departure for Flights to and From Cuba

AGENCY: U.S. Customs and Border Protection (CBP), Department of Homeland Security.

ACTION: 60-Day Notice and request for comments; Extension of an existing collection of information: 1651-0134.

SUMMARY: As part of its continuing effort to reduce paperwork and respondent burden, CBP invites the general public and other Federal agencies to comment on an information collection requirement concerning the Request for Entry or Departure for Flights to and from Cuba. This request for comment is being made pursuant to the Paperwork Reduction Act of 1995 (Pub. L. 104-13).

DATES: Written comments should be received on or before May 9, 2011, to be assured of consideration.

ADDRESSES: Direct all written comments to U.S. Customs and Border Protection, Attn: Tracey Denning, Regulations and Rulings, Office of International Trade, 799 9th Street, NW., 5th Floor, Washington, DC 20229-1177.

FOR FURTHER INFORMATION CONTACT: Requests for additional information should be directed to Tracey Denning, U.S. Customs and Border Protection, Regulations and Rulings, Office of International Trade, 799 9th Street, NW., 5th Floor, Washington, DC 20229-1177, at 202-325-0265.

SUPPLEMENTARY INFORMATION: CBP invites the general public and other Federal agencies to comment on proposed and/or continuing information collections pursuant to the Paperwork Reduction Act of 1995 (Pub. L. 104-13). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual costs burden to respondents or record keepers from the collection of information (a total capital/startup costs and operations and maintenance costs). The comments that are submitted will be summarized and included in the CBP request for Office of Management and Budget (OMB) approval. All comments will become a matter of public record. In this document CBP is soliciting comments concerning the following information collection:

Title: Request for Entry or Departure for Flights To and From Cuba.

OMB Number: 1651-0134.

Form Number: None.

Abstract: Until recently, direct flights between the United States and Cuba were required to arrive or depart from one of three named U.S. airports: John F. Kennedy International Airport, Los Angeles International Airport, and Miami International Airport. On January 28, 2011, Customs and Border Protection's (CBP) regulations were amended to allow additional U.S. airports that are able to process international flights to request approval of CBP to process authorized flights between the United States and Cuba.

To be eligible to request approval to accept flights to and from Cuba, an airport must be an international airport, landing rights airport, or user fee airport, as defined and described in part 122 of the CBP regulations, and have adequate and up-to-date staffing, equipment and facilities to process international traffic.

In order for an airport to seek approval to allow arriving and departing flights from Cuba, the port authority must send a written request to CBP requesting permission. Information about the program and how to apply may be found at http://www.cbp.gov/xp/cgov/newsroom/highlights/cuba_flights.xml.

This information collection is authorized by 19 U.S.C. 1433, 1644a, 8 U.S.C 1103, and provided for by 19 CFR 122.153.

Current Actions: This submission is being made to extend the expiration date of this information collection with a change to the burden hours resulting from revised estimates by CBP of the number of respondents. There is no change to the information being collected.

Type of Review: Extension (with change)

Affected Public: Businesses.

Estimated Number of Respondents: 30.

Estimated Number of Responses per Respondent: 1.

Estimated Total Annual Responses: 30.

Estimated Time per Response: 1 hour.

Estimated Total Annual Burden Hours: 30.

Dated: March 3, 2011.
Tracey Denning,
Agency Clearance Officer, U.S. Customs and Border Protection.

[FR Doc. 2011-5437 Filed 3-9-11; 8:45 am]

BILLING CODE 9111-14-P